DEPARTMENT OF HOMELAND SECURITY

[DHS Docket No. ICEB-2013-0001]

RIN 1653-ZA13

Extension of Employment Authorization for Syrian F-1 Nonimmigrant Students Experiencing Severe Economic Hardship as a Direct Result of Civil Unrest in Syria Since March 2011

AGENCY: U.S. Immigration and Customs Enforcement (ICE), DHS.

ACTION: Notice.

SUMMARY: This notice informs the public of the extension of an earlier notice, which suspended certain requirements for F-1 nonimmigrant students whose country of citizenship is Syria and who are experiencing severe economic hardship as a direct result of the civil unrest in Syria since March 2011. This notice extends the effective date of that notice. The extension of the suspension applies to such students whose country of citizenship is Syria and who lawfully obtained F-1 nonimmigrant student status by September 9, 2016.

DATES: This notice is effective March 15, 2018 and will remain in effect until September 30, 2019.

FOR FURTHER INFORMATION CONTACT: Rachel Canty, Director, Student and Exchange Visitor Program, MS 5600, U.S. Immigration and Customs Enforcement, 500 12th Street SW, Washington, DC 20536-5600; email: sevp@ice.dhs.gov, telephone: (703) 603-3400. This is not a toll-free number. Program information can be found at http://www.ice.gov/sevis/.

SUPPLEMENTARY INFORMATION:

What action is the Department of Homeland Security (DHS) taking under this notice?

The Secretary of Homeland Security is exercising her authority under 8 CFR 214.2(f)(9) to extend the suspension of the applicability of certain requirements governing on-campus and off-campus employment for F-1 nonimmigrant students whose country of citizenship is Syria, who are lawfully present in the United States in F-1 nonimmigrant student status, obtained F-1 nonimmigrant status by September 9, 2016, and who are experiencing severe economic hardship as a direct result of the civil unrest in Syria since March 2011. See 77 FR 20038 (April 3, 2012); 81 FR 62520 (September 9, 2016). The original notice was effective from April 3, 2012 until October 3, 2013. A subsequent notice provided for an 18-month extension from October 3, 2013, through March 31, 2015. See 78 FR 36211 (June 17, 2013). A third notice provided another 18-month extension from March 31, 2015, through September 30, 2016. See 80 FR 232 (January 5, 2015). A fourth notice provided another 18-month extension from September 30, 2016, through March 31, 2018, and expanded the applicability of such suspension to Syian F-1 students who lawfully obtained F-1 nonimmigrant student status between April 3, 2012 and September 9, 2016. See 81 FR 62520 (September 9, 2016). Effective with this publication, suspension of the employment limitations is extended for 18 months from March 31, 2018 until September 30, 2019.

F-1 nonimmigrant students granted employment authorization through the notice will continue to be deemed to be engaged in a “full course of study” for the duration of their employment authorization, provided they satisfy the minimum course load requirement described in 77 FR 20038. See 8 CFR 214.2(f)(6)(i)(F).

Who is covered under this action?

This notice applies exclusively toF-1 nonimmigrant students whose country of citizenship is Syria and who were lawfully present in the United States in F-1 nonimmigrant status under section 101(a)(15)(F)(i) of the Immigration and Nationality Act (INA), 8 U.S.C. 1101(a)(15)(F)(i), on September 9, 2016, and are—

(1) Enrolled in an institution that is Student and Exchange Visitor Program (SEVP)-certified for enrollment of F-1 students,

(2) Currently maintaining F-1 status, and

(3) Experiencing severe economic hardship as a direct result of the ongoing civil unrest in Syria since March 2011.

ICE records show that as of January 23, 2018, there are approximately 620 Syrian F-1 visa holders in active status who would be covered by this notice. This notice applies to elementary school, middle school, high school, undergraduate, and graduate students. This notice, however, applies differently to elementary school, middle school, and high school students (see the discussion published at 77 FR 20040, available at http://www.gpo.gov/fdsys/pkg/FR-2012-04-03/pdf/2012-7960.pdf, in the question, “Does this notice apply to elementary school, middle school, and high school students in F-1 status?”).

F-1 students covered by this notice who transfer to other academic institutions that are SEVP-certified for enrollment of F-1 students remain eligible for the relief provided by means of this notice.

Why is DHS taking this action?

DHS took action to provide temporary relief to F-1 nonimmigrant students whose country of citizenship is Syria and who experienced severe economic hardship because of the civil unrest in Syria since March 2011. See 77 FR 20038 (April 3, 2012). It enabled these F-1 students to obtain employment authorization, work an increased number of hours while school was in session, and reduce their course load, while continuing to maintain their F-1 student status. In June 2013, January 2015, and again in September 2016, DHS acknowledged that the the civil unrest in Syria continued to affect Syria's citizens, with many people still displaced as a result. DHS extended the application of the original April 3, 2012, notice through March 31, 2018, to continue to provide temporary relief to Syrian F-1 students who experienced severe economic hardship as a result of the conflict. Despite DHS's determination that the civil conflict in Syria continued well beyond the October 3, 2013, expiration date of the original notice, temporary relief was not made available to Syrian F-1 students who became lawfully present in the United States in F-1 nonimmigrant status after April 3, 2012. On September 9, 2016, however, DHS published a notice extending the application of the temporary relief in the original April 3, 2012 notice to those Syrian F-1 nonimmigrant students who lawfully obtained F-1 nonimmigrant status between April 3, 2012, and September 9, 2016.

The conflict in Syria continues to affect the physical and economic security of its citizens. There are more than 11.7 million displaced Syrians in the region, both inside Syria and in neighboring countries, plus nearly 1 million Syrians have applied for asylum in Europe. The United Nations High Commissioner for Refugees has reported over 2.8 million civilians displaced in 2017 alone, many for the second or third time. Since the beginning of the conflict, as many as 500,000 Syrians are dead or missing.

As a result of the civil war and conflict, food and water insecurity continues to have a major negative impact on the population of Syria. As of September 2017, the United Nations World Food Program assessed that food production in Syria was at an all-time low and that the situation was showing no sign of improving. Due to an 800 percent increase in the consumer food price index between 2010 and 2016, 90 percent of Syrian households now spend over half of their income on food, compared with 25 percent before the crisis. As of March 2017, 51 percent of Syrians lacked regular access to the public water system, relying instead on unregulated systems not tested for water purity. Schools and hospitals are significantly impacted by the lack of basic levels of sanitation, as well as the destruction of many facilities.

Furthermore, the conflict continues to negatively affect the Syrian economy. In 2017, the World Bank Group issued a report detailing the economic and social consequences of the conflict in Syria, estimating $226 billion in lost GDP since the conflict erupted, a figure equal to about four times the Syrian GDP in 2010. World Bank Grp., The Toll of War: The Economic and Social Consequences of the Conflict in Syria 83 (2017), https://openknowledge.worldbank.org/bitstream/handle/10986/27541/The%20Toll%20of%20War.pdf.

Given the conditions in Syria, affected students whose primary means of financial support come from Syria may need to be exempt from the normal student employment requirements to be able to continue their studies in the United States and meet basic living expenses.

The United States is committed to continuing to assist the people of Syria. DHS is therefore extending this employment authorization for F-1 nonimmigrant students whose country of citizenship is Syria, who lawfully obtained F-1 nonimmigrant student status by September 9, 2016, and who are continuing to experience severe economic hardship as a result of the civil unrest since March 2011.

How do I apply for employment authorization under the circumstances of this notice?

F-1 nonimmigrant students whose country of citizenship is Syria who lawfully obtained F-1 nonimmigrant student status by September 9, 2016, and are experiencing severe economic hardship because of the civil unrest may apply for employment authorization under the guidelines described in 77 FR 20038. This notice extends the time period during which such F-1 students may seek employment due to the civil unrest. It does not impose any new or additional policies or procedures beyond those listed in the original notice. All interested F-1 students should follow the instructions listed in the original notice.

Elaine C. Duke,
Deputy Secretary.

[FR Doc. 2018-05206 Filed 3-14-18; 8:45 am]

BILLING CODE 9111-28-P